DEPARTMENT OF HOUSING AND URBAN DEVELOPMENT

[Docket No. FR-5125-N-13]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, room 7266, Department of Housing and Urban Development, 451 Seventh Street, SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to John Hicks, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: COAST GUARD: Commandant, U.S. Coast Guard, Attn: Teresa Sheinberg, 2100 Second St., SW., Rm. 6109, Washington, DC 20593-0001; (202 267-6142; ENERGY: Mr. John Watson, Department of Energy, Office of Engineering & Construction Management, ME-90, 1000 Independence Ave., SW., Washington, DC 20585; (202) 586-0072; GSA: Mr. John E.B. Smith, Deputy Assistant Commissioner, General Services Administration, Office of Property Disposal, 18th and F Streets, NW., Washington, DC 20405; (202) 501-0084; INTERIOR: Ms. Linda Tribby, Acquisition & Property Management, Department of the Interior, 1849 C Street, NW., MS5512, Washington, DC 20240; (202) 513-0747; NAVY: Mr. Warren Meekins, Associate Director, Department of the Navy, Real Estate Services, Naval Facilities Engineering Command, Washington Navy Yard, 1322 Patterson Ave., SE., Suite 1000, Washington, DC 20374-5065; (202) 685-9305; (These are not toll-free numbers).

Dated: March 22, 2007.
Mark R. Johnston,
Deputy Assistant Secretary for Special Needs.

Title V, Federal Surplus Property Program Federal Register Report for 03/30/2007

Suitable/Available Properties

Building

California

Old Customs House

12 Heffernan Ave.

Calexico CA 92231

Landholding Agency: GSA

Property Number: 54200710016

Status: Surplus

GSA Number: 9:-G-CA-1658

Comments: 16,108 sq. ft., possible asbestos/lead paint, zoned commercial, major repairs for long term use, historic building

Idaho

Ditchrider's House

411 S. Crestview Rd.

Paul ID 83347

Landholding Agency: GSA

Property Number: 54200710017

Status: Surplus

GSA Number: 9:-I-ID-561

Comments: 832 sq. ft., presence of asbestos/lead paint

Suitable/Available Properties

Building

Maryland

Former USPO/Office Bldg.

2 West Montgomery Ave.

Rockville MD 20850

Landholding Agency: GSA

Property Number: 54200710018

Status: Surplus

GSA Number: MD-598-1

Comments: 7430 sq. ft., roof leaks, property use restrictions, groundwater use prohibition

Washington

Residence

Riverside Road

Yakima WA 98901

Landholding Agency: Interior

Property Number: 61200710010

Status: Unutilized

Comments: 756 sq. ft., off-site use only

Manufactured Home

Riverside Road

Yakima WA 98901

Landholding Agency: Interior

Property Number: 61200710011

Status: Unutilized

Comments: 1458 sq. ft., off-site use only

Suitable/Unavailable Properties

Building

Hawaii

Bldg. 2652

Navy Aloha Center

Pearl Harbor HI 96860

Landholding Agency: Navy

Property Number: 77200710039

Status: Underutilized

Comments: 9125 sq. ft., most recent use—office

Unsuitable Properties

Building

Alaska

FAA Bldg. 300

Lake Minchumina AK 99901

Landholding Agency: GSA

Property Number: 54200710014

Status: Surplus

GSA Number: 9-U-AK-756

Reasons: Within 2000 ft. of flammable or explosive material

Radar Tower

Potato Point Comm Site

Valdez AK

Landholding Agency: Coast Guard

Property Number: 88200710001

Status: Excess

Reasons: Not accessible by road, Within 2000 ft. of flammable or explosive material, Secured Area

Unsuitable Properties

Building

Alaska

Radar Tower

Spit Site Comm Site

Valdez AK

Landholding Agency: Coast Guard

Property Number: 88200710002

Status: Excess

Reasons: Secured Area

California

Bldgs. 29A, 29B, 29C

Lawrence Berkeley Natl Laboratory

Berkeley Co: Alameda CA 94720

Landholding Agency: Energy

Property Number: 41200710008

Status: Excess

Reasons: Extensive deterioration

Bldg. PM 134

Naval Base

Point Mugu Co: Ventura CA 93043

Landholding Agency: Navy

Property Number: 77200710023

Status: Unutilized

Reasons: Extensive deterioration,

Secured Area

Bldgs. PH837, PH1372

Naval Base

Port Hueneme Co: Ventura CA 93043

Landholding Agency: Navy

Property Number: 77200710024

Status: Unutilized

Reasons: Extensive deterioration,

Secured Area

Unsuitable Properties

Building

California

Bldg. 523107

Marine Corps Base

Camp Pendleton CA 92055

Landholding Agency: Navy

Property Number: 77200710025

Status: Excess

Reasons: Extensive deterioration

6 Bldgs.,

Marine Corps Base

Camp Pendleton CA 92055

Landholding Agency: Navy

Property Number: 77200710026

Status: Excess

Directions: 523112, 523113, 523114, 523115, 523116, 523117

Reasons: Extensive deterioration

6 Bldgs.

Marine Corps Base

Camp Pendleton CA 92055

Landholding Agency: Navy

Property Number: 77200710027

Status: Excess

Directions: 523122, 523123, 523124, 523125, 523126, 523127

Reasons: Extensive deterioration

Unsuitable Properties

Building

California

6 Bldgs.

Marine Corps Base

Camp Pendleton CA 92055

Landholding Agency: Navy

Property Number: 77200710028

Status: Excess

Directions: 523132, 523133, 523134, 523135, 523136, 523137

Reasons: Extensive deterioration

6 Bldgs.

Marine Corps Base

Camp Pendleton CA 92055

Landholding Agency: Navy

Property Number: 77200710029

Status: Excess

Directions: 523142, 523143, 523144, 523145, 523146, 523147

Reasons: Extensive deterioration

Bldgs. 523156, 523157

Marine Corps Base

Camp Pendleton CA 92055

Landholding Agency: Navy

Property Number: 77200710030

Status: Excess

Reasons: Extensive deterioration

Bldg. 30726

Naval Air Weapons

China Lake CA 93555

Landholding Agency: Navy

Property Number: 77200710047

Status: Excess

Reasons: Secured Area

Unsuitable Properties

Building

Hawaii

Bldgs. 146, 147

Naval Station

Pearl Harbor HI 96860

Landholding Agency: Navy

Property Number: 77200710031

Status: Excess

Reasons: Extensive deterioration

Bldg. 326

Naval Station

Pearl Harbor HI 96860

Landholding Agency: Navy

Property Number: 77200710032

Status: Excess

Reasons: Extensive deterioration

Bldg. 545

Naval Station

Pearl Harbor HI 96860

Landholding Agency: Navy

Property Number: 77200710033

Status: Excess

Reasons: Extensive deterioration

Bldg. 1247

Naval Station

Pearl Harbor HI 96860

Landholding Agency: Navy

Property Number: 77200710034

Status: Excess

Reasons: Extensive deterioration

Unsuitable Properties

Building

Hawaii

Bldg. 288

Pacific Missile Range

Kekaha HI

Landholding Agency: Navy

Property Number: 77200710035

Status: Excess

Reasons: Extensive deterioration

Bldgs. 301, 305

Pacific Missile Range

Kekaha HI 96752

Landholding Agency: Navy

Property Number: 77200710036

Status: Excess

Reasons: Extensive deterioration

Bldgs. 336, 364

Pacific Missile Range

Kekaha HI 96752

Landholding Agency: Navy

Property Number: 77200710037

Status: Excess

Reasons: Extensive deterioration

Bldg. 434

Pacific Missile Range

Kekaha HI 96752

Landholding Agency: Navy

Property Number: 77200710038

Status: Excess

Reasons: Extensive deterioration

Unsuitable Properties

Building

Illinois

Bldg. B-11J

Naval Station

Great Lakes IL 60088

Landholding Agency: Navy

Property Number: 77200710040

Status: Excess

Reasons: Extensive deterioration, Secured Area, Within 2000 ft. of flammable or explosive material

Bldg. B-219H

Naval Station

Great Lakes IL 60088

Landholding Agency: Navy

Property Number: 77200710041

Status: Excess

Reasons: Secured Area

Bldg. B-912

Naval Station

Great Lakes IL 60088

Landholding Agency: Navy

Property Number: 77200710042

Status: Excess

Reasons: Secured Area

Bldg. B-1991

Naval Station

Great Lakes IL 60088

Landholding Agency: Navy

Property Number: 77200710043

Status: Excess

Reasons: Secured Area

Unsuitable Properties

Building

Illinois

Bldg. B-1938

Naval Station

Great Lakes IL 60088

Landholding Agency: Navy

Property Number: 77200710044

Status: Excess

Reasons: Secured Area

Bldg. B-2600

Naval Station

Great Lakes IL 60088

Landholding Agency: Navy

Property Number: 77200710045

Status: Excess

Reasons: Secured Area

Maryland

Bldg. PR#203210

Stump Neck Annex

Indian Head MD

Landholding Agency: Navy

Property Number: 77200710046

Status: Excess

Reasons: Secured Area

Unsuitable Properties

Building

Pennsylvania

Army Reserve Center 950 Saw Mill Run

Pittsburgh PA 15226

Landholding Agency: GSA

Property Number: 54200710015

Status: Surplus

GSA Number: 4-D-PA-0805

Reasons: Extensive deterioration

South Carolina

Bldgs. 108-1R, 108-2R

Savannah River Site

Aiken SC 29802

Landholding Agency: Energy

Property Number: 41200710010

Status: Unutilized

Reasons: Secured Area

Bldgs. 717-003S, 717-010S

Savannah River Site

Aiken SC 29802

Landholding Agency: Energy

Property Number: 41200710011

Status: Unutilized

Reasons: Secured Area

Unsuitable Properties

Building

Tennessee

Bldg. 2010

Oak Ridge Natl Laboratory

Oak Ridge TN 37831

Landholding Agency: Energy

Property Number: 41200710009

Status: Excess

Reasons: Secured Area, Extensive deterioration

Land

California

0.038 acre

Ortega Reservoir

Summerland CA 93067

Landholding Agency: Interior

Property Number: 61200710012

Status: Unutilized

Reasons: Other—inaccessible

[FR Doc. E7-5621 Filed 3-29-07; 8:45 am]

BILLING CODE 4210-67-P